DEPARTMENT OF DEFENSE

Office of the Secretary

[Transmittal No. 24-0T]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0T.

Dated: November 13, 2025.
Aaron T. Siegel,
Alternate OSD Federal Register Liaison Officer, Department of Defense.

Transmittal No. 24-0T

REPORT OF ENHANCEMENT OR UPGRADE OF SENSITIVITY OF TECHNOLOGY OR CAPABILITY (SEC. 36(b)(5)(C), AECA)

(i) Purchaser: Government of Poland

(ii) Sec. 36(b)(1), AECA Transmittal No.: 22-71

Date: December 6, 2022

Implementing Agency: Army

Funding Source: National Funds

(iii) Description: On December 6, 2022, Congress was notified by congressional certification transmittal number 22-71 of the possible sale, under Section 36(b)(1) of the Arms Export Control Act, of one hundred sixteen (116) M1A1 Abrams Main Battle Tanks; twelve (12) M88A2 HERCULES Combat Recovery Vehicles; eight (8) M1110 Joint Assault Bridges; six (6) M577A3 Command Vehicles; twenty-six (26) M1152A1 High Mobility Multi-purpose Wheeled Vehicles (HMMWV); twenty-six (26) M1279A1 Joint Light Tactical Vehicles (JLTV); one hundred sixteen (116) M2 .50 caliber machine guns; two hundred thirty-two (232) M240 7.62mm machine guns; six (6) AGT1500 gas turbine engines; thirty thousand nine hundred twenty-eight (30,928) 120mm M865 Target Practice, Cone Stabilized, Discarding Sabot—Tracer (TPCSDS-T) cartridges; twenty thousand eight hundred twenty-three (20,823) 120mm M1002 Target Practice Multipurpose Tracer (TPMP-T) projectiles; sixty thousand (60,000) 120mm M829A4 Armor Piercing, Fin Stabilized, Discarding Sabot-Tracer (APFSDS-T) cartridges; two thousand (2,000) 120mm M829A3 Armor Piercing, Fin Stabilized, Discarding Sabot-Tracer (APFSDS-T) cartridges; fifty thousand (50,000) 120mm M829A2 Armor Piercing, Fin Stabilized, Discarding Sabot-Tracer (APFSDS-T) Cartridges; ten thousand (10,000) 120mm M830A1 High Explosive Anti-Tank (HEAT) TP-T cartridges; sixty thousand (60,000) 120mm M908 High Explosive Obstacle Reduction-Tracer (HE-OR-T) cartridges; and seventy thousand (70,000) 120mm M1147 High Explosive Advanced Multipurpose Round cartridges. Also included were Forward Repair Systems; Next Generation (NG) Shop Equipment Maintenance Contact (SECM) shelters; communications equipment; GPS receivers; ammunition; Spare and Repair Parts; Special Tools and Test Equipment (STTE); technical manuals and publications; new equipment training; U.S. Government and contractor technical engineering, logistics, and personnel services; and other related elements of logistics and program support. The estimated total cost was $3.75 billion. Major Defense Equipment (MDE) constituted $3.25 billion of this total.

This transmittal notifies inclusion of the following MDE items: twenty-five (25) M1150 Assault Breacher Vehicles (ABVs); thirty-seven (37) M2 .50 caliber machine guns; sixty thousand (60,000) 120 mm M908 High Explosive Obstacle Reduction—Tracer (HE-OR-T) cartridges; thirty (30) 120 mm M865 Target Practice, Cone Stabilized, Discarding Sabot—Tracer (TPCSDS-T) cartridges; two hundred twenty-five (225) M58 linear charge demolition, high explosive Mine Clearing Line Charges (MICLICs); and twenty-five (25) M68A2 Charge, Demolition, Inert, Flexible Linear. The following non-MDE items will also be included: MK22 MOD 4 5-inch rocket motors; AN/PRC-158 radios; communications equipment; Global Positioning System (GPS) receivers and precise positioning provided by Selective Availability Anti-Spoofing Module or M-Code; forward repair systems; spare and repair parts; Special Tools and Test Equipment (STTE); technical manuals and publications; New Equipment Training (NET); site surveys; transportation; U.S. Government and contractor technical, engineering, logistics, and personnel services; and other related elements of logistics and program support. The total value of the new items is $850 million. The value of the new MDE items accounts for $450 million of this total, while the value of the new non-MDE items accounts for the remaining $400 million. These values will not require an increase to the previously notified MDE and non-MDE values of $3.25 billion and $0.50 billion, respectively. The estimated total cost will remain $3.75 billion.

(iv) Significance: This notification is being provided as the additional MDE and non-MDE items were not enumerated in the original notification. The inclusion of these items represents an increase in capability over what was previously notified. The proposed sale will support Poland's ability to meet current and future threats by providing a credible force that is capable of deterring adversaries and participating in NATO operations.

(v) Justification: This proposed sale will support the foreign policy goals and national security objectives of the United States by improving the security of a NATO Ally that is an important force for political stability and economic progress in Europe.

(vi) Sensitivity of Technology: The M1150 Assault Breacher Vehicle (ABV) is a tracked, combat engineer system designed to breach mine fields and complex obstacles. It provides crew protection and vehicle survivability while having the speed and mobility to keep pace with the maneuver force. It can be equipped with either a Full Width Mine Plow (FWMP) or the Combat Dozer Blade (CDB). The following sub-systems are included in the ABV:

Armor: Major components of the armor are fabricated and assembled into serialized removable subassemblies and installed in sealed modules. The ABV chassis armor is the same armor that has been exported in all FMS Abrams tanks. The turret armor is a tailored armor unique to the ABV turret.

Integrated Vision System (IVS) for day/night operations: IVS has a two-axis stabilized gimbal in addition to an Enhanced Situation Awareness camera system. The IVS allows operators to remain under armor while conducting their mission with maximum visual awareness around the vehicle.

Commander's Weapon Station (CWS): Provides .50 caliber capability that can be fired when the commander's hatch is in opened or closed position.

Magnetic Signature Duplicator (MSD): The Magnetic Signature Duplicator (MSD) provides a magnetic signature sufficiently in advance of a vehicle to negate the effectiveness of magnetic influence mines. The MSD increases the effectiveness and survivability of countermine equipment by causing the stand-off detonation of magnetic influence mines at a safe distance ahead of the host vehicle. The MSD can be installed on various types of front-end equipment, including the FWMP.

The highest level of classification of defense articles, components, and services included in this potential sale is SECRET.

(vii) Date Report Delivered to Congress: September 25, 2024

[FR Doc. 2025-20032 Filed 11-17-25; 8:45 am]

BILLING CODE 6001-FR-P